ENVIRONMENTAL PROTECTION AGENCY

[FRL-6989-8]

Agency Information Collection Activities: Proposed Collection; Comment Request; Final National Primary Drinking Water Regulations; Stage 1 Disinfectants/Disinfection Byproducts Rule and Interim Enhanced Surface Water Treatment Rule

AGENCY: Environmental Protection Agency.

ACTION: Notice.

SUMMARY: In compliance with the Paperwork Reduction Act (44 U.S.C. 3501 et seq.), this document announces that Environmental Protection Agency (EPA) is planning to submit the following two continuing Information Collection Requests (ICRs) to the Office of Management and Budget (OMB). Before submitting the ICRs to OMB for review and approval, EPA is soliciting comments on specific aspects of the information collection as described at the beginning of Supplementary Information.

DATES: Comments must be submitted on or before July 31, 2001.

ADDRESSES: Office of Ground Water and Drinking Water (MC 4606), 1200 Pennsylvania Avenue NW., Washington, DC 20460. A hard copy of an ICR may be obtained without charge by calling the identified information contact individual for each ICR in Section C of the Supplementary Information.

FOR FURTHER INFORMATION CONTACT: For specific information on the individual ICR see Section C of the Supplementary Information.

SUPPLEMENTARY INFORMATION:

A. For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

B. List of ICRs Planned To Be Submitted

In compliance with the Paperwork Reduction Act (44 U.S.C. 3501 et seq.), this notice announces that EPA is planning to submit the following two continuing Information Collection Requests (ICRs) to the Office of Management and Budget (OMB):

(1) Information Collection Request for Final National Primary Drinking Water Regulations; Stage 1 Disinfectants/Disinfection Byproducts Rule, ICR Number: 1896.01, OMB Control Number: 2040-0204, expiring November 30, 2001.

(2) Information Collection Request for Final National Primary Drinking Water Regulations; Interim Enhanced Surface Water Treatment Rule, ICR Number: 1895.01, OMB Control Number: 2040-0205, expiring November 30, 2001.

C. Contact Individuals for ICRs

(1) Information Collection Request for Final National Primary Drinking Water Regulations; Stage 1 Disinfectants/Disinfection Byproducts Rule, Nicole Foley, phone: 202-260-0875, facsimile: 202-401-2345, foley.nicole@epa.gov. (ICR Number: 1896.01, OMB Control Number: 2040-0204, expiring November 30, 2001);

(2) Information Collection Request for Final National Primary Drinking Water Regulations; Interim Enhanced Surface Water Treatment Rule, Nicole Foley, phone: 202-260-0875, facsimile: 202-401-2345, foley.nicole@epa.gov. (ICR Number: 1895.01, OMB Control Number: 2040-0205, expiring November 30, 2001).

D. Individual ICRs

(1) Information Collection Request for Final National Primary Drinking Water Regulations; Stage 1 Disinfectants/Disinfection Byproducts Rule, ICR Number: 1896.01, OMB Control Number: 2040-0204, expiring November 30, 2001.

Affected Entities: Entities potentially affected by this action are State, local, Tribal or Federal governments, and public water systems (PWSs). This rule applies to community water systems and nontransient noncommunity water systems that add a chemical disinfectant to the water in any part of the drinking water treatment process and transient noncommunity water systems that use chlorine dioxide. “Small” systems serve less than 10,000 people. “Large” systems serve 10,000 or more people. “Subpart H” systems include all PWSs using surface water or ground water under the direct influence of surface water as a source (40 CFR 141.2).

Abstract: The Stage 1 Disinfectants/Disinfection Byproducts Rule (Stage 1 DBPR) requires information collection for disinfectants and disinfection byproducts (DBPs). The contaminants included in this rule also include DBP precursors, characterized as total organic carbon (TOC). Under the Stage 1 DBPR, contaminants and disinfectants regulated include total trihalomethanes (TTHMs), five haloacetic acids (HAA5), bromate, chlorite, chlorine, chloramines, chlorine dioxide, and TOC (through a treatment technique). The regulation is intended to protect public health and welfare from these chemicals.

All of the data collected from PWSs and States are mandatory (40 CFR part 141 subpart L and 40 CFR part 142). Data from laboratories for laboratory certification or approval are not mandatory, but laboratories must provide it in order to obtain or retain a benefit. Under this rule, State and local respondents will collect and report information on the levels of various contaminants in drinking water supplies at specified intervals. The Environmental Protection Agency (the Agency), through the Safe Drinking Water Information System (SDWIS), will use the information to ensure compliance with this rule and to protect public health. The date that systems begin to monitor contaminants for the Stage 1 DBPR depends on the size and type of the system (40 CFR 141.130).

Monitoring, reporting, and record keeping are required at both system and State levels under the National Primary Drinking Water Regulations (NPDWRs) (40 CFR 141.131, 141.132, 141.134, 141.135, 142.14, 142.16). All public water systems (PWSs) shall maintain and report to the State information documenting compliance with the treatment and monitoring requirements under the NPDWRs. States shall maintain records essential for program implementation and oversight. These records, retained in the SDWIS or at State offices, will allow EPA to track PWS compliance with the NPDWRs.

Data collected under the Safe Drinking Water Act (SDWA) are used by the Agency's Office of Ground Water and Drinking Water and other U.S. EPA programs, such as Superfund and RCRA. The data are also used by the Farmers Home Administration, the Department of the Interior, the Department of Housing and Urban Development, the U.S. Army Corps of Engineers, White House Task forces, the Federal Emergency Management Agency, the Food and Drug Administration, public interest groups, and many private companies and individuals. The information collected is not confidential.

Burden Statement: The estimated annual burden hours for this renewed information collection are 724,307 hours. The estimated average burden hours per response is 0.7 hours. The estimated average number of responses per respondent is 24. The estimated number of likely respondents annually is 47,074. The estimated annual cost is $43.1 million which represents O&M costs in the form of fee for service.

Change in Burden: The burden will be changed from 314,471 annual burden hours to 724,307 annual burden hours for this renewal ICR. The estimated burden of 409,836 annual burden hours is occurring because all monitoring, reporting, and record keeping requirements associated with compliance under the Stage 1 DBPR will take effect during the next ICR approval period. The O&M costs also occur as a result of the monitoring requirements.

(2) Information Collection Request for Final National Primary Drinking Water Regulations; Interim Enhanced Surface Water Treatment Rule, ICR Number: 1895.01, OMB Control Number: 2040-0205, expiring November 30, 2001.

Affected Entities: Entities potentially affected by this action are State, local, Tribal or Federal governments, and public water systems serving 10,000 or more people using surface water or ground water under the direct influence of surface water. “Subpart H” systems include all PWSs using surface water or ground water under the direct influence of surface water as a source (40 CFR § 141.2).

Abstract: The Interim Enhanced Surface Water Treatment Rule (IESWTR) requires information collection of turbidity measurements and water quality characteristics for Subpart H public water systems (PWSs) serving 10,000 or more people. Subpart H systems include all PWSs using surface water or ground water under the direct influence (GWUDI) of surface water as a source (40 CFR 141.2). Under this rule, standards for combined filter effluent are strengthened to improve control of microbial contaminants, the protozoan Cryptosporidium in particular. The rule also establishes individual filter monitoring and reporting requirements. Additionally, the provisions of this rule are intended to prevent an increase in microbial risk while PWSs comply with new standards for disinfection byproducts. The regulatory initiative discussed in this document is intended to protect public health and welfare from microbial contaminants. All of the data collected from PWSs and States are mandatory (40 CFR part 141 subpart L and 40 CFR part 142). Data from laboratories for laboratory certification or approval are not mandatory, but laboratories must provide the data in order to obtain or retain a benefit. In addition, under this drinking water protection initiative, EPA would assure appropriate laboratory approval through a volunteer program for the measurement of microbial contaminants (e.g., Cryptosporidium) for the protection of public health. Through this program, EPA would evaluate the performance of laboratories analyzing PWS source water microbial samples. Given the high level of skill and experience required for the appropriate analytical methods, and the impracticality for States to adopt their own laboratory approval program for a small number of laboratories, an EPA laboratory approval program is critical to ensure high quality data. Also, the microbial contaminant data analyzed by the laboratories may be used to meet possible future compliance requirements for PWSs.

Several distinct types of data are being collected under the IESWTR. The most extensive data collection effort involves monitoring the turbidity of drinking water at individual filters for all PWSs covered by this rule. This monitoring requirement supplements current combined filter effluent turbidity monitoring already required under the Surface Water Treatment Rule (SWTR). Under the current SWTR, PWSs must monitor their combined filter effluent every 4 hours to determine compliance. This requirement will continue under the IESWTR, but the turbidity compliance levels will change. The IESWTR will initiate new requirements for individual filter monitoring using a continuous monitoring turbidimeter and electronically recording data on a continuous basis. The turbidity data for individual filters are used to determine if follow-up filter or plant assessments are needed.

Monitoring, reporting, and record keeping are required at both system and State levels under the National Primary Drinking Water Regulations (NPDWRs) (40 CFR 141.172, 141.174, 142.175, 142.14, 142.15). All affected PWSs shall maintain and report to the State information documenting compliance with the treatment and monitoring requirements under the NPDWRs. States shall maintain records essential for program implementation and oversight. These records, retained in the Safe Drinking Water Information System (SDWIS), will allow EPA to track PWS compliance with the NPDWRs.

Data collected under the Safe Drinking Water Act (SDWA) are used by the Agency's Office of Ground Water and Drinking Water, and other U.S. EPA programs such as Superfund and RCRA. The data are also used by the Farmers Home Administration, the Department of the Interior, the Department of Housing and Urban Development, the U.S. Army Corps of Engineers, White House task forces, the Federal Emergency Management Agency, the Food and Drug Administration, public interest groups, and many private companies and individuals. The information collected is not confidential.

Burden Statement: The estimated annual burden hours for this renewed information collection are 4,682,067 hours. The estimated average burden hours per response is one hour. The estimated average number of responses per respondent is 3,229. The estimated number of likely respondents annually is 1,497. The estimated annual capital cost is $30.9 million. The estimated annual O&M cost is $10.3 million.

Change in Burden: The burden will be changed from 150,557 annual hours to 4,687,452 annual hours for this renewal ICR. The burden of 4,682,067 annual hours is occurring because turbidity monitoring for individual filters and sanitary surveys are beginning in the third year following promulgation of the rule. In addition, a laboratory approval program for measurement of microbial contaminants will add an estimated marginal burden of 5,385 annual hours, an estimated annual capital cost of $17,000, and an estimated annual O&M cost of $71,000.

Dated: May 24, 2001.
Phil Oshida,
Acting Director, Office of Ground Water and Drinking Water.

[FR Doc. 01-13923 Filed 5-31-01; 8:45 am]

BILLING CODE 6560-50-P